DEPARTMENT OF HEALTH AND HUMAN SERVICES

National Institutes of Health

Office of the Director, National Institutes of Health; Office of Biotechnology Activity; Recombinant DNA Research; Notice of a Meeting of an NIH Blue Ribbon Panel

There will be a meeting of the NIH Blue Ribbon Panel to advise on the Risk Assessment of the National Emerging Infectious Disease Laboratory at Boston University Medical Center. The meeting will be held on Thursday, March 13, 2008, at the National Institutes of Health, Building 1, Wilson Hall, 1 Center Drive, Bethesda, Maryland 20892, from 8:30 a.m. to approximately 2 p.m.

Discussion will include the charge to the Panel, an overview of the principles of environmental protection laws, and risk assessment studies.

For further information concerning this meeting contact Ms. Laurie Lewallen, Advisory Committee Coordinator, Office of Biotechnology Activities, Office of the Director, National Institutes of Health, 6705 Rockledge Drive, Room 750, Bethesda, MD 20892-7985, 301-496-9838, lewallla@od.nih.gov.

The meeting will be open to the public, with attendance limited to space available. Individuals who plan to attend and need special assistance, such as sign language interpretation or other reasonable accommodations, should notify the Contact Person listed above in advance of the meeting. Any interested person may file written comments with the panel by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

An agenda and any additional information for the meeting will be posted on the agency's Web site: http://www.nih.gov/about/director/acd/index.htm.

Background information may be obtained by contacting NIH OBA by e-mail oba@od.nih.gov.

Dated: March 4, 2008.
Amy P. Patterson,
Director, Office of Biotechnology Activities.

[FR Doc. E8-4849 Filed 3-10-08; 8:45 am]

BILLING CODE 4140-01-P